DEPARTMENT OF COMMERCE

International Trade Administration

Initiation of Antidumping and Countervailing Duty Administrative Reviews and Request for Revocation in Part

Correction

In notice document 2013-7392 beginning on page 19197 in the issue of Friday, March 29, 2013, make the following correction:

On page 19198, in the table, in the first column, “A-351-825” should read “A-351-838”.

[FR Doc. C1-2013-07392 Filed 5-24-13; 8:45 am]

BILLING CODE 1505-01-D